OFFICE OF MANAGEMENT AND BUDGET

Request for Comments on Category Management Policy 16-2: Improving the Acquisition and Management of Common Information Technology: Mobile Devices and Services

AGENCY: Office of Management and Budget.

ACTION: Notice of public comment period.

SUMMARY: The Office of Management and Budget (OMB) is seeking public comment on a draft memorandum titled, “Category Management Policy 16-2: Improving the Acquisition and Management of Common Information Technology: Mobile Devices and Services.”

DATES: The 30-day public comment period on the draft memorandum begins on March 30, 2016.

ADDRESSES: Interested parties should provide comments at the following link: https://mobile.cio.gov/.

FOR FURTHER INFORMATION CONTACT: Ms. Meredith Romley at Meredith_B._Romley@omb.eop.gov or OFCIO@omb.eop.gov.

SUPPLEMENTARY INFORMATION: The Office of Management and Budget (OMB) and Office of Federal Procurement Policy are jointly proposing the third IT Category Management policy memorandum. This memo is required under the Federal Information Technology Oversight and Reform Act (FITARA). The memo seeks to improve the acquisition and management of mobile devices and services through consolidation of contracts, mandated use of one or more government-wide best-in-class contract solutions, improved demand management, and increased accountability of agency officials. Authority for this notice is granted under the Clinger-Cohen Act, 40 U.S.C. Subtitle III.

Tony Scott,
Administrator, Office of the Federal Chief Information Officer.

Anne Rung,
Administrator, Office of Federal Procurement Policy.

[FR Doc. 2016-07192 Filed 3-29-16; 8:45 am]

BILLING CODE 3110-05-P